CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed renewal of the Social Innovation Fund Pay for Success Grant Competition Application Instructions. Funding for this competition was created as a result of the FY 2014 Omnibus Appropriations Act. This competition responds to the need in the social sector for new ways of funding as traditional resources are declining and demands are increasing. It offers the opportunity to support innovation in the social sector while driving better results and conserving government resources. The affected public includes nonprofit organizations, funders and intermediary organizations.

Copies of the information collection request can be obtained by contacting the office listed in the Addresses section of this Notice.

DATES: Written comments must be submitted to the individual and office listed in the ADDRESSES section by November 28, 2014.

ADDRESSES: You may submit comments, identified by the title of the information collection activity, by any of the following methods:

(1) By mail sent to: Corporation for National and Community Service, Social Innovation Fund—Pay for Success Grant Competition; Attention Lois Nembhard, Deputy Director Social Innovation Fund, Room 9601; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Lois Nembhard, 202-606-6827, or by email at lnembhard@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The affected public includes nonprofit organizations, funders and intermediary organizations. Comments may be submitted, identified by the title of the information collection activity, by email to lnembhard@cns.gov or via http://www.regulations.gov.

Current Action

CNCS seeks to renew the current information collection. The current application is due to expire on 12/31/2014. The information collection will otherwise be used in the same manner as the existing application. CNCS also seeks to continue using the current application until the revised application is approved by OMB.

Type of Review: Renewal.

Agency: Corporation for National and Community Service.

Title: Social Innovation Fund Pay for Success Grant Competition Application Instructions.

OMB Number: 3045-0160.

Agency Number: None.

Affected Public: Nonprofit organizations, funders and intermediary organizations.

Total Respondents: 20.

Frequency: One time.

Average Time per Response: 30 hours.

Estimated Total Burden Hours: 600 hours.

Total Burden Cost (capital/startup): None.

Total Burden Cost (operating/maintenance): None.

Comments submitted in response to this notice will be summarized and/or included in the request for Office of Management and Budget approval of the information collection request; they will also become a matter of public record.

Dated: September 15, 2014.
Lois Nembhard,
Deputy Director, Social Innovation Fund.

[FR Doc. 2014-23102 Filed 9-26-14; 8:45 am]

BILLING CODE 6050-28-P